DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the City of Baton Rouge, Parish of East Baton Rouge, LA, and Hennepin County, MN. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before March 6, 2017.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: TramLinkBR Project, City of Baton Rouge, Parish of East Baton Rouge, LA. Project sponsor: City of Baton Rouge, Parish of East Baton Rouge. Project description: The proposed project would construct a modern tram (streetcar) system located in an approximately three-mile north-south corridor linking the State Capitol and downtown area of the City of Baton Rouge with Louisiana State University and the Old South Baton Rouge neighborhood. The project would include 11 stop locations, an overhead contact system, four traction power substations, and an operations and maintenance facility. Final agency actions: No use determination of Section 4(f) resources; Section 106 finding of no adverse effect; and Finding of No Significant Impact, dated July 29, 2016. Supporting documentation: Environmental Assessment, dated June 3, 2016.

2. Project name and location: METRO Blue Line Light Rail Transit Extension Project, Hennepin County, MN. Project sponsor: Metropolitan Council. Project description: The proposed project is approximately 13.5 miles of new double-track extension of the METRO Blue Line that will connect downtown Minneapolis to the cities of Golden Valley, Robbinsdale, Crystal, and Brooklyn Park. The alignment includes 11 new light rail stations, approximately 1,670 additional park-and-ride spaces, accommodations for passenger drop-off and bicycle and pedestrian access, and new or restructured local bus routes connecting stations to nearby residential, commercial, and educational land uses. The project would include one operations and maintenance facility, 17 traction power substations, 25 signal bungalow sites, seven new light rail transit bridges, and five reconstructed roadway bridges. Final agency actions: Section 4(f) determination; a Section 106 Memorandum of Agreement, dated August 23, 2016; project-level air quality conformity; and a Record of Decision, dated September 19, 2016. Supporting documentation: Final Environmental Impact Statement, dated July 15, 2016.

Lucy Garliauskas,
Associate Administrator Planning and Environment.

[FR Doc. 2016-24216 Filed 10-5-16; 8:45 am]

BILLING CODE P